DEPARTMENT OF ENERGY

Federal Energy Regulatory Commission

[Project No. 2277]

AmerenUE; Notice of Availability of Final Environmental Assessment

August 14, 2007.

In accordance with the National Environmental Policy Act of 1969 and the Federal Energy Regulatory Commission (Commission or FERC) regulations contained in the Code of Federal Regulations (CFR) (18 CFR Part 380), the Office of Energy Projects has prepared a Final Environmental Assessment (FEA) regarding AmerenUE's request to rebuild the upper reservoir of the Taum Sauk Pumped Storage Project (FERC No. 2277), located on the East Fork Black River, in Reynolds County, Missouri. The FEA analyzes the environmental effects of the reconstruction of the upper reservoir and contains measures to minimize those effects. The FEA concludes that the proposed reconstruction, with recommended mitigation measures, would not constitute a major federal action significantly affecting the quality of the human environment.

A copy of the FEA is available for review at the Commission in the Public Reference Room, or it may be viewed on the Commission's Web site at http://www.ferc.gov using the e-Library link. Enter the docket number “P-2277” in the docket number field to access the document. For assistance, call (202) 502-8222 or (202) 502-8659 (for TTY).

For further information regarding this notice, please contact Thomas LoVullo at (202) 502-8900.

Kimberly D. Bose,
Secretary.

[FR Doc. E7-16389 Filed 8-20-07; 8:45 am]

BILLING CODE 6717-01-P